DEPARTMENT OF ENERGY

Federal Energy Regulatory Commission

[Docket Nos. RP00-243-000, CP97-177-000, and CP97-177-001]

Alliance Pipeline L.P.; Notice of Petition

April 19, 2000.

Take notice that on April 5, 2000, Alliance Pipeline L.P. (Alliance) filed a Petition for Partial Waiver of Part 284, Subpart J Regulations, pursuant to rule 207(a)(5) of the Federal Energy Regulatory Commission (Commission) Rules of Practice and Procedure, 18 CFR 385.207(a)(5). Alliance requests a partial, limited term waiver of: (1) 18 CFR 284.287 to permit Alliance to make sales of test gas during commissioning and testing of its pipeline without having tariff provisions governing such sales on file and approved by the Commission and (2) 18 CFR 284.283 regarding the delivery point at which Subpart J sales may be made, to the extent necessary. If the Commission declines to grant the requested waiver requests, Alliance requests, in the alternative, that the Commission issue a limited term certificate authorizing sales of test gas as proposed in the application.

Alliance states that disposition of test gas is necessary to permit the safe, timely and efficient commissioning of its new pipeline system. According to Alliance, sales of test gas as proposed in its petition will not adversely affect the firm shippers for whom Alliance will be providing transportation on the in-service date of the pipeline. In accordance with governing accounting regulations, Alliance proposes to credit net revenues from sales of test gas to the capital cost of the associated facilities being tested and commissioned for the economic benefit of the Alliance shippers. Finally, Alliance states that the requested waivers are applicable only during the limited period of the Alliance commissioning process, and that any Subpart J sales made following Alliance's in-service date will be made in accordance with the Subpart J regulations and the Commission-approved tariff in effect for Alliance at that time.

Any person desiring to be heard or to protest said filing should file a protest or motion to intervene with the Federal Energy Regulatory Commission, 888 First Street, NE, Washington, DC 20426 in accordance with sections 385.211 and 385.214 of the Commission's Rules of Practice and Procedure (18 CFR 385.211 and 385.214) on or before May 10, 2000. Protests will be considered by the Commission in determining the appropriate action to be taken, but will not serve to make protestants parties to the proceedings. Any person wishing to become a party must file a motion to intervene. Copies of this filing are on file with the Commission and are available for public inspection in the Public Reference Room.

David P. Boergers,
Secretary.

[FR Doc. 00-10250 Filed 4-24-00; 8:45 am]

BILLING CODE 6717-01-M